SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: July 1-31, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22 (f) for the time period specified above:

Approvals by Rule Issued Under 18 CFR 806.22(e)

1. DelGrosso Foods Inc., ABR-201707002, Antis Township, Blair County, Pa.; Consumptive Use of Up to 0.2500 mgd; Approval Date: July 25, 2017.

Approvals by Rule Issued Under 18 CFR 806.22(f)

1. SWN Production Company, LLC, Pad ID: ENDLESS MOUNTAIN RECREATION, ABR-201209001.R1, New Milford Township, Susquehanna County, Pa.; Consumptive Use of Up to 4.9990 mgd; Approval Date: July 14, 2017.

2. SWN Production Company, LLC, Pad ID: WOOSMAN PAD, ABR-201209006.R1, New Milford Township, Susquehanna County, Pa.; Consumptive Use of Up to 4.9990 mgd; Approval Date: July 14, 2017.

3. Cabot Oil & Gas Corporation, Pad ID: Rag Apple LLC P1, ABR-201207015.R1, Jessup Township, Susquehanna County, Pa.; Consumptive Use of Up to 5.0000 mgd; Approval Date: July 18, 2017.

4. Cabot Oil & Gas Corporation, Pad ID: FlowerT P1, ABR-201207016.R1, Springville Township, Susquehanna County, Pa.; Consumptive Use of Up to 5.0000 mgd; Approval Date: July 18, 2017.

5. Cabot Oil & Gas Corporation, Pad ID: ReillyJ P1, ABR-201207017.R1, Gibson Township, Susquehanna County, Pa.; Consumptive Use of Up to 5.0000 mgd; Approval Date: July 18, 2017.

6. Range Resources—Appalachia, LLC, Pad ID: State Game Lands 075A—West Pad, ABR-201207002.R1, Pine Township, Lycoming County, Pa.; Consumptive Use of Up to 1.0000 mgd; Approval Date: July 18, 2017.

7. Inflection Energy (PA), LLC, Pad ID: Converse Well Site, ABR-201707001, Mill Creek and Wolf Townships, Lycoming County, Pa.; Consumptive Use of Up to 4.0000 mgd; Approval Date: July 20, 2017.

8. Repsol Oil & Gas USA, LLC, Pad ID: KUHLMAN (05 258) M, ABR-201208023.R1, Windham Township, Bradford County, Pa.; Consumptive Use of Up to 6.0000 mgd; Approval Date: July 20, 2017.

9. SWN Production Company, LLC, Pad ID: SWOPE PAD, ABR-201209007.R1, Jackson Township, Susquehanna County, Pa.; Consumptive Use of Up to 4.9990 mgd; Approval Date: July 24, 2017.

10. SWN Production Company, LLC, Pad ID: MULLOY PAD, ABR-201209008.R1, Jackson Township, Susquehanna County, Pa.; Consumptive Use of Up to 4.9990 mgd; Approval Date: July 24, 2017.

11. SWN Production Company, LLC, Pad ID: MARVIN PAD, ABR-201209009.R1, Jackson Township, Susquehanna County, Pa.; Consumptive Use of Up to 4.9990 mgd; Approval Date: July 24, 2017.

12. SWN Production Company, LLC, Pad ID: FREITAG PAD, ABR-201209010.R1, Jackson Township, Susquehanna County, Pa.; Consumptive Use of Up to 4.9990 mgd; Approval Date: July 24, 2017.

13. Carrizo (Marcellus), LLC, Pad ID: Ricci Well Pad, ABR-201208019.R1, Bridgewater Township, Susquehanna County, Pa.; Consumptive Use of Up to 2.1000 mgd; Approval Date: July 26, 2017.

14. Chief Oil & Gas, LLC, Pad ID: Bishop Drilling Pad, ABR-201212014.R1, Auburn Township, Susquehanna County, Pa.; Consumptive Use of Up to 2.0000 mgd; Approval Date: July 31, 2017.

Authority: Pub. L. 91-575, 84 Stat. 1509 et seq., 18 CFR parts 806, 807, and 808.

Dated: September 20, 2017.
Stephanie L. Richardson,
Secretary to the Commission.

[FR Doc. 2017-20411 Filed 9-22-17; 8:45 am]

BILLING CODE 7040-01-P